EXPORT-IMPORT BANK

[Public Notice: 2021-6046]

Agency Information Collection Activities: Comment Request

AGENCY: Export-Import Bank of the United States.

ACTION: Submission for OMB review and comments request.

SUMMARY: The Export-Import Bank of the United States (EXIM), as part of its continuing effort to reduce paperwork and respondent burden, invites the general public and other Federal Agencies to comment on the proposed information collection, as required by the Paperwork Reduction Act of 1995. Government-wide policy requires all Federal employees to be vaccinated against COVID-19, with exceptions only as required by law. Employees may seek a legal exception to the vaccination requirement due to a disability, using the reasonable accommodation Form. The agency may also ask for other information, as needed. Requests for “medical accommodation” or “medical exceptions” will be treated as requests for a disability accommodation and evaluated and decided under applicable Rehabilitation Act standards for reasonable accommodation absent undue hardship to the agency.

DATES: Comments must be received on or before February 7, 2022 to be assured of consideration.

ADDRESSES: Comments may be submitted electronically on www.regulations.gov (EIB 21-03) or by email to Nakia.Burton@exim.gov, or by mail to Nakia Burton, Export-Import Bank, 811 Vermont Ave. NW, Washington, DC 20571. The information collection tool can be reviewed at: eib21-03.pdf (exim.gov).

FOR FURTHER INFORMATION CONTACT: To request additional information, please Nakia Burton, nakia.burton@exim.gov, 202-565-3225.

SUPPLEMENTARY INFORMATION:

Title and Form Number: EIB 21-03 REQUEST FOR A MEDICAL EXCEPTION TO THE COVID-19 VACCINATION REQUIREMENT.

OMB Number: 3048-xxxx.

Type of Review: Regular.

Need and Use: The information collected will allow EXIM to determine compliance and content for transaction requests submitted to the Export-Import Bank under its insurance, guarantee, and direct loan programs.

Affected Public: This form affects EXIM employees.

Annual Number of Respondents: 12.

Estimated Time per Respondent: 2 hours.

Annual Burden Hours: 24 hours.

Frequency of Reporting of Use: As required.

Government Expenses:

Reviewing time per Year: 2 hours.

Average Wages per Hour: $42.50.

Average Cost per Year: $1,020.00 (time*wages).

Benefits and Overhead: 20%.

Total Government Cost: $1,224.00.

Bassam Doughman,
IT Specialist.

[FR Doc. 2021-26462 Filed 12-6-21; 8:45 am]

BILLING CODE 6690-01-P